OFFICE OF MANAGEMENT AND BUDGET

North American Industry Classification System—Updates for 2012

AGENCY: Office of Management and Budget, Executive Office of the President.

ACTION: Notice of solicitation of comments on the Economic Classification Policy Committee's recommendations for the 2012 revision of the North American Industry Classification System.

SUMMARY: Under 31 U.S.C. 1104(d) and 44 U.S.C. 3504(e), the Office of Management and Budget (OMB) seeks public comment on the advisability of adopting the Economic Classification Policy Committee's (ECPC) recommendations for North American Industry Classification System (NAICS) updates for 2012. NAICS is a system for classifying establishments (individual business locations) by type of economic activity. Mexico's Instituto Nacional de Estadística y Geografía (INEGI), Statistics Canada, and the United States Office of Management and Budget, through its Economic Classification Policy Committee, collaborated on NAICS to make the industry statistics produced by the three countries comparable. OMB's Economic Classification Policy Committee recommends an update of the industry classification system to clarify existing industry definitions and content, recognize new and emerging industries, and correct errors and omissions.

This notice: (1) Summarizes the background for the proposed revisions to NAICS 2007 in Part I, (2) contains a summary of public comments to the first Federal Register notice (74 FR 764-768, January 7, 2009) for the 2012 NAICS revision process in Part II, (3) includes a list of title changes for NAICS industries that clarify but do not change the existing content of the industries in Part III, and (4) provides a comprehensive listing of proposed changes for national industries and their links to NAICS 2007 industries in Part IV.

OMB published a notification of intention to revise portions of NAICS in a January 7, 2009, Federal Register notice (74 FR 764-768). That notice solicited comments on the advisability of revising the NAICS 2007 structure for 2012: (1) To reduce the amount of detail at the industry level in the manufacturing sector; (2) to account for new and emerging industries; (3) to account for any errors or omissions identified in NAICS 2007 during implementation; (4) to provide clarification on the most appropriate classification of units that outsource manufacturing transformation activities; and (5) to clarify the classification of publishers' sales offices, distribution centers, and logistics service providers. The deadline for submitting comments was April 7, 2009.

After considering all proposals from the public, consulting with U.S. data users and industry groups, and undertaking extensive discussions with Statistics Canada and Mexico's INEGI, the ECPC in collaboration with INEGI and Statistics Canada developed recommendations for revisions to NAICS 2012 that would apply to all three North American countries. These revisions focus on improving the description of current industries, identifying new and emerging industries, and recommending changes to industry content based on research and implementation experience.

The ECPC recommends that NAICS United States 2012 incorporate changes as shown in Parts III and IV of this notice.

Following an extensive process of development and discussions by the ECPC, with maximum possible public input, OMB seeks comment on the advisability of revising NAICS to incorporate the changes published in this notice. The revised NAICS would be employed in relevant data collections by U.S. agencies beginning with the reference year 2012. Statistics Canada and INEGI are recommending acceptance of the proposed revisions of the NAICS system for industry classification in the statistical programs of their national systems and are seeking comments in their respective countries. Representatives of the three countries will hold further discussions to consider public comments that they receive.

DATES: Comments on the adoption and implementation of the NAICS revisions detailed in this notice must be in writing. Please submit them as soon as possible. To ensure consideration of comments, they must be received no later than July 12, 2010. Please be aware of delays in mail processing at Federal facilities due to heightened security. Respondents are encouraged to send your comments via FAX, e-mail, or http://www.regulations.gov (discussed in ADDRESSES below). This proposed revision to NAICS would become effective in the U.S. for publication of establishment data that refer to periods beginning on or after January 1, 2012.

ADDRESSES: Please send correspondence about the adoption and implementation of proposed 2012 NAICS revisions as shown in this Federal Register notice to: Katherine K. Wallman, Chief Statistician, Office of Management and Budget, 10201 New Executive Office Building, Washington, DC 20503, telephone number: (202) 395-3093, fax number: (202) 395-7245. Please send E-mail comments to naics@omb.eop.gov with subject NAICS12. Comments may also be sent via http://www.regulations.gov—a Federal E-Government Web site that allows the public to find, review, and submit comments on documents that agencies have published in the Federal Register and that are open for comment. Simply type “Updates for 2012” (in quotes) in the Comment or Submission search box, click Go, and follow the instructions for submitting comments.

OMB will include in the official record all comments received via FAX, Web site, e-mail, hardcopy, or other means at the addresses listed above by the date specified above. Comments submitted in response to this notice may be made available to the public through relevant Web sites. For this reason, please do not include in your comments information of a confidential nature, such as sensitive personal information or proprietary information. If you send an e-mail comment, your e-mail address will be automatically captured and included as part of the comment that is placed in the public docket. Please note that responses to this public comment request containing any routine notice about the confidentiality of the communication will be treated as public comments that may be made available to the public notwithstanding the inclusion of the routine notice.

Please address inquiries about the content of industries, or requests for electronic copies of the tables to: John Murphy, Chair, Economic Classification Policy Committee, U.S. Census Bureau, Room 8K157, Washington, DC 20233, telephone number: (301) 763-5172, e-mail: John.Burns.Murphy@census.gov.

Electronic Availability and Comments: This document is available on the Internet from the Census Bureau Internet site via WWW browser. To obtain this document via WWW browser, connect to http://www.census.gov/naics. This WWW page also contains links to previous NAICS Federal Register notices and related documents.

FOR FURTHER INFORMATION CONTACT: Paul Bugg, 10201 New Executive Office Building., Washington, DC 20503, e-mail address: pbugg@omb.eop.gov, telephone number: (202) 395-3095, fax number: (202) 395-7245.

Cass R. Sunstein,
Administrator, Office of Information and Regulatory Affairs.

SUPPLEMENTARY INFORMATION:

Part I: Background of NAICS

The North American Industry Classification System is a system for classifying establishments (individual business locations) by type of economic activity. Its purposes are: (1) To facilitate the collection, tabulation, presentation, and analysis of data relating to establishments, and (2) to promote uniformity and comparability in the presentation and analysis of statistical data describing the North American economy. NAICS is the first industry classification system developed in accordance with a single principle of aggregation, the principle that producing units that use similar production processes should be grouped together in the classification. NAICS also reflects in an explicit way the enormous changes in technology and in the growth and diversification of services that have marked recent decades.

NAICS is used by Federal statistical agencies that collect or publish data by industry. It is also widely used by State agencies, trade associations, private businesses, and other organizations.

Mexico's Instituto Nacional de Estadística y Geografía, Statistics Canada, and the United States Office of Management and Budget, through its Economic Classification Policy Committee, collaborated on NAICS to make the industry statistics produced by the three countries comparable. For the three countries, NAICS provides a consistent framework for the collection, tabulation, presentation, and analysis of industry statistics used by government policy analysts, by academics and researchers, by the business community, and by the public. However, because of different national economic and institutional structures as well as limited resources and time for constructing NAICS, its structure was not made entirely comparable at the individual industry level across all three countries. For some sectors and subsectors, the statistical agencies of the three countries agreed to harmonize NAICS based on sectoral boundaries rather than on a detailed industry structure. NAICS three country comparability is limited to the sector level for wholesale trade, retail trade, and public administration. Industry statistics presented using NAICS are also comparable, to a limited extent, with statistics compiled according to the latest revision of the United Nations' International Standard Industrial Classification of All Economic Activities (ISIC, Revision 4).

The four principles of NAICS are:

(1) NAICS is erected on a production-oriented conceptual framework. This means that producing units that use the same or similar production processes are grouped together in NAICS.

(2) NAICS gives special attention to developing production-oriented classifications for (a) new and emerging industries, (b) service industries in general, and (c) industries engaged in the production of advanced technologies.

(3) Time series continuity is maintained to the extent possible.

(4) The system strives for compatibility with the two-digit level of the International Standard Industrial Classification of All Economic Activities (ISIC Rev. 4) of the United Nations.

The ECPC is committed to maintaining the principles of NAICS during revisions. The January 7, 2009, solicitation for public comment on questions related to a potential revision of NAICS in 2012 was directly tied to the application of the four NAICS principles.

Moreover, the ECPC has recommended continued attention to preserving time series continuity. The standard approach to preserving time series continuity after classification revisions is to create linkages where the series break. This is accomplished by producing the data series using both the old and new classifications for a given period of transition. With the dual classifications of data, analysts can assess the full impact of the revision. Data producers then may measure the reallocation of the data at aggregate industry levels and develop a concordance between the old and new series for that given point in time. The concordance creates a crosswalk between the old and new classification systems. Statistical agencies in the U.S. are planning links between the 2007 NAICS and 2012 NAICS (with U.S. national detail).

NAICS uses a hierarchical structure to classify establishments from the broadest level to the most detailed level using the following format:

Sector | 2-digit | Sectors represent the highest level of aggregation. There are 20 sectors in NAICS representing broad levels of aggregation.
Subsector | 3-digit | Subsectors represent the next, more detailed level of aggregation in NAICS. There are 99 subsectors in NAICS United States 2007.
Industry Group | 4-digit | Industry groups are more detailed than subsectors. There are 313 Industry groups in NAICS United States 2007.
NAICS Industry | 5-digit | NAICS industries are the level that, in most cases, represents the lowest level of three country comparability. There are 721 five-digit industries in NAICS United States 2007.
National Industry | 6-digit | National industries are the most detailed level of NAICS. These industries represent the national level detail necessary for economic statistics in an industry classification. There are 1175 U.S. industries in NAICS United States 2007.

Part II: Summary of Public Comments Regarding Priorities for Changes to NAICS in 2012

In response to the January 7, 2009, Federal Register notice, the ECPC received a total of 65 comments. Each submission was assigned a unique docket number. These 65 comments addressed the questions included in the notice and/or included comments proposing other changes to the structure of NAICS 2007.

The ECPC has applied the following general guidance when considering changes to NAICS in 2012:

(1) Because of the cost of change and disruption of statistical data that have already resulted from the ongoing implementation of NAICS, the ECPC will limit the scope of the changes for 2012 to those that significantly improve the relevance and efficiency of the classification system;

(2) The ECPC will recommend new and emerging industries identified through the comment process that are supported by the guiding principles of NAICS;

(3) The ECPC will recommend revisions to resolve issues related to classification of units specifically identified in the January 7, 2009, Federal Register notice; and

(4) The ECPC will make changes to account for errors and omissions as well as recommend narrative improvements to clarify the content of existing industries.

The ECPC also considered the views of its member agencies (Bureau of Economic Analysis, Bureau of Labor Statistics, and Bureau of the Census) when evaluating specific proposals for changes to NAICS in 2012. The ECPC reviewed each individual proposal within the existing framework of the principles of NAICS. Additional considerations that resulted in recommendations for or against change included issues of relevance, size, and time series continuity.

Comments received often addressed more than one issue. Therefore the following summary references more than 65 suggestions.

Of the 65 comments received in response to the Federal Register notice, ten addressed the issue of reducing the 6-digit industry-level detail in the manufacturing sector. Some of these expressed objections to reducing the amount of detail within manufacturing in general, others expressed objections to reducing the detail for specific areas of manufacturing, several acknowledged the need to reduce detail and advised using criteria for limiting the amount of reduction, and one proposed specific areas for reducing detail. The ECPC considered these comments in conjunction with specific proposals from its member statistical agencies for reduction of industry detail in the manufacturing sector. The proposals from the ECPC member agencies arose from two general types of concern: (1) Impending inability to publish statistical data for these industries due to decreasing number of establishments, decreasing employment, and/or decreasing value of shipments over time; and (2) increasing difficulty in stable and consistent classification of establishments into these industries due to decreasing specialization and coverage within the industries. The ECPC ultimately arrived at recommendations that would result in a net decrease of 108 detailed 6-digit industries in the manufacturing sector. The majority of these reductions would be achieved by aggregating 6-digit industries up to the existing 5-digit industry level. The tables in Part IV show the specific manufacturing industry revisions proposed by the ECPC. A detailed description of the rationale and supporting data for each of these recommendations is provided at http://www.census.gov/naics.

Nine of the 65 comments provided suggestions on the most appropriate classification of units that outsource manufacturing transformation activities. The ECPC recognized the growing use of outsourcing by manufacturing industries to improve efficiency and to reduce costs associated with purchase and maintenance of capital equipment and large production facilities. The ECPC sought public comment on where establishments that outsource 100 percent of manufacturing transformation activities should be classified within NAICS, and whether a separate industry (or industries) should be created within NAICS for these establishments. The response to the Federal Register notice was insufficient to reliably gauge the general public's position on this issue. Among the few comments received, some recommended classification within manufacturing and others recommended classification within wholesale trade; some stated a specific need to classify these establishments within a separate industry, and others did not address this issue. The ECPC, through a special subcommittee created to research this outsourcing issue, examined the potential impact of various classification options on the economic programs of the major statistical agencies, and on the resulting comparability and consistency of the economic data published across these agencies. Ultimately, the ECPC decided to recommend classification of establishments that bear the overall responsibility and risk for bringing together all processes necessary for the production of a good in the manufacturing sector, even if the actual transformation is 100 percent outsourced. A document discussing the issues and rationale for reaching this recommendation is available at http://www.census.gov/naics.

Three of the 65 comments addressed clarification of the classification of publishers' sales offices, distribution centers, and logistics service providers. This response was insufficient to reliably gauge the general public's position. The ECPC recommends classification of publishers' sales offices in the information sector, classification of distribution centers supplying affiliated retailers in warehousing and storage, and classification of units providing logistics services based on the primary industrial activity of the establishments being classified. Separate documents discussing the issues and rationale for these recommendations are available at: http://www.census.gov/naics.

The ECPC received 46 comments that requested specific changes to NAICS industries for 2012. Thirty-nine of those comments requested creation of new industries within NAICS, including five requests for an ecosystem health care assistance industry or sector, three requests for an industry covering the delivery of orthotic and prosthetic devices, two requests to create an industry for the cryogenic treatment of metal, two requests for a nanotechnology research and development industry, several varying requests for industries related to renewable energy, and single requests for other new industries such as cultural resources management, green jobs, technical ceramics manufacturing, public health service, simulation, erosion control contractors, and classic car retail showrooms. The balance of the comments requested revisions or clarifications of content of existing NAICS industries, such as the design service industries, the display advertising industry, and the industries in Sector 62 related to elder care and disability services.

Each of these 46 suggestions was carefully considered. Some suggestions were accepted but modified by the ECPC to better meet the objectives of NAICS. For example, while the ECPC is not recommending a new industry for firestop contractors at this time, all three countries agreed to gather the relevant activities in an existing industry to facilitate further evaluation of the size and specialization in the future. Another request proposed new industries in the utilities sector to identify renewable energy. The ECPC is recommending four new industries based on the unique production processes for solar electric power generation, wind electric power generation, geothermal electric power generation, and biomass electric power generation. Similarly, based on public comments, the ECPC is recommending industry title and definition changes to explicitly classify certain activities and more clearly match accepted industry terminology. The ECPC is recommending changes of this type in the agriculture; construction; manufacturing; and professional, scientific, and technical services sectors for 2012. Please see Part III below for details.

Other suggestions proposed products rather than industries. Still other suggestions for change could not be justified on a production basis, or could not be implemented in statistical programs, for various reasons, and thus were not accepted. When a proposal was not accepted, it was usually because: (a) The resulting industry would have been too small in the U.S.; (b) the specialization ratio of the resulting industry, a measure of the degree to which establishments in the industry are similar to one another and different from establishments in other industries, was too low; or (c) the proposal did not meet the production-oriented criterion for forming an industry in NAICS. A document discussing the issues and rationale for reaching these recommendations is available at http://www.census.gov/naics.

Part III: ECPC Recommendations for Title Changes

The ECPC is recommending several NAICS industry title changes to more clearly describe the existing content of industries. These title changes would not change the content of industries, but rather refine how they are described.

NAICS Subsector 112, Animal Production, would be changed to “Animal Production and Aquaculture.”

NAICS 236115, New Single-Family Housing Construction (except Operative Builders), would be changed to “New Single-Family Housing Construction (except For-Sale Builders).”

NAICS 236116, New Multifamily Housing Construction (except Operative Builders), would be changed to “New Multifamily Housing Construction (except For-Sale Builders).”

NAICS 236117, New Housing Operative Builders, would be changed to “New Housing For-Sale Builders.”

NAICS 334613, Magnetic and Optical Recording Media Manufacturing, would be changed to “Blank Magnetic and Optical Recording Media Manufacturing.”

NAICS 54185, Display Advertising, would be changed to “Outdoor Advertising.”

NAICS 541850, Display Advertising, would be changed to “Outdoor Advertising.”

NAICS Industry Group 6231, Nursing Care Facilities, would be changed to “Nursing Care Facilities (Skilled Nursing Facilities).”

NAICS 62311, Nursing Care Facilities, would be changed to “Nursing Care Facilities (Skilled Nursing Facilities).”

NAICS 623110, Nursing Care Facilities, would be changed to “Nursing Care Facilities (Skilled Nursing Facilities).”

NAICS Industry Group 6232, Residential Mental Retardation, Mental Health and Substance Abuse Facilities, would be changed to “Residential Intellectual and Developmental Disability, Mental Health and Substance Abuse Facilities.”

NAICS 62321, Residential Mental Retardation Facilities, would be changed to “Residential Intellectual and Developmental Disability Facilities.”

NAICS 623210, Residential Mental Retardation Facilities, would be changed to “Residential Intellectual and Developmental Disability Facilities.”

NAICS Industry Group 6233, Community Care Facilities for the Elderly, would be changed to “Continuing Care Retirement Communities and Assisted Living Facilities for the Elderly.”

NAICS 62331, Community Care Facilities for the Elderly, would be changed to “Continuing Care Retirement Communities and Assisted Living Facilities for the Elderly.”

NAICS Industry Group 623312, Homes for the Elderly, would be changed to “Assisted Living Facilities for the Elderly.”

Part IV: ECPC Recommendations for 2012 Changes to the 2007 NAICS United States

Part IV presents the ECPC recommendations for content revisions to NAICS United States for 2012. Table 1 lists, in NAICS United States 2007 order, the disposition of all industries that the ECPC recommends for change and their resulting relationship to NAICS United States 2012 proposed industries. Table 2 presents the ECPC recommended NAICS 2012 industries, in proposed NAICS United States 2012 order, cross-walked to their NAICS United States 2007 content.

Table 1—2007 NAICS United States Matched to ECPC Recommendations for 2012 NAICS United States
2007 NAICS code | 2007 NAICS description | Status code | 2012 NAICS code | 2012 NAICS description
221119 | Other Electric Power Generation
| solar electric power generation |  | 221114 | Solar Electric Power Generation.
| wind electric power generation |  | 221115 | Wind Electric Power Generation.
| geothermal electric power generation |  | 221116 | Geothermal Electric Power Generation.
| biomass electric power generation |  | 221117 | Biomass Electric Power Generation.
| all other electric power generation (except fossil fuel, hydroelectric, nuclear) |  | 221118 | Other Electric Power Generation.
238190 | Other Foundation, Structure, and Building Exterior Contractors:
| building fireproofing contractors |  | 238310 | Drywall and Insulation Contractors.
| except building fireproofing contractors | pt. | 238190 | Other Foundation, Structure, and Building Exterior Contractors.
238310 | Drywall and Insulation Contractors | pt. | 238310 | Drywall and Insulation Contractors.
238330 | Flooring Contractors:
| fireproof flooring construction contractors | pt. | 238310 | Drywall and Insulation Contractors.
| except fireproof flooring construction contractors |  | 238330 | Flooring Contractors.
311222 | Soybean Processing | pt. | 311224 | Soybean and Other Oilseed Processing.
311223 | Other Oilseed Processing | pt. | 311224 | Soybean and Other Oilseed Processing.
311311 | Sugarcane Mills | pt. | 311314 | Cane Sugar Manufacturing.
311312 | Cane Sugar Refining | pt. | 311314 | Cane Sugar Manufacturing.
311320 | Chocolate and Confectionery Manufacturing from Cacao Beans |  | 311351 | Chocolate and Confectionery Manufacturing from Cacao Beans.
311330 | Confectionery Manufacturing from Purchased Chocolate |  | 311352 | Confectionery Manufacturing from Purchased Chocolate.
311711 | Seafood Canning | pt. | 311710 | Seafood Product Preparation and Packaging.
311712 | Fresh and Frozen Seafood Processing | pt. | 311710 | Seafood Product Preparation and Packaging.
311822 | Flour Mixes and Dough Manufacturing from Purchased Flour | pt. | 311824 | Dry Pasta, Dough, and Flour Mixes Manufacturing from Purchased Flour.
311823 | Dry Pasta Manufacturing | pt. | 311824 | Dry Pasta, Dough, and Flour Mixes Manufacturing from Purchased Flour.
312210 | Tobacco Stemming and Redrying | pt. | 312230 | Tobacco Manufacturing.
312221 | Cigarette Manufacturing | pt. | 312230 | Tobacco Manufacturing.
312229 | Other Tobacco Product Manufacturing | pt. | 312230 | Tobacco Manufacturing.
313111 | Yarn Spinning Mills | pt. | 313110 | Fiber, Yarn, and Thread Mills.
313112 | Yarn Texturizing, Throwing, and Twisting Mills | pt. | 313110 | Fiber, Yarn, and Thread Mills.
313113 | Thread Mills | pt. | 313110 | Fiber, Yarn, and Thread Mills.
313221 | Narrow Fabric Mills | pt. | 313220 | Narrow Fabric Mills and Schiffli Machine Embroidery.
313222 | Schiffli Machine Embroidery | pt. | 313220 | Narrow Fabric Mills and Schiffli Machine Embroidery.
313241 | Weft Knit Fabric Mills | pt. | 313240 | Knit Fabric Mills.
313249 | Other Knit Fabric and Lace Mills | pt. | 313240 | Knit Fabric Mills.
313311 | Broadwoven Fabric Finishing Mills | pt. | 313310 | Textile and Fabric Finishing Mills.
313312 | Textile and Fabric Finishing (except Broadwoven Fabric) Mills | pt. | 313310 | Textile and Fabric Finishing Mills.
314121 | Curtain and Drapery Mills | pt. | 314120 | Curtain and Linen Mills.
314129 | Other Household Textile Product Mills | pt. | 314120 | Curtain and Linen Mills.
314911 | Textile Bag Mills | pt. | 314910 | Textile Bag and Canvas Mills.
314912 | Canvas and Related Product Mills | pt. | 314910 | Textile Bag and Canvas Mills.
314991 | Rope, Cordage, and Twine Mills | pt. | 314994 | Rope, Cordage, Twine, Tire Cord, and Tire Fabric Mills.
314992 | Tire Cord and Tire Fabric Mills | pt. | 314994 | Rope, Cordage, Twine, Tire Cord, and Tire Fabric Mills.
315111 | Sheer Hosiery Mills | pt. | 315110 | Hosiery and Sock Mills.
315119 | Other Hosiery and Sock Mills | pt. | 315110 | Hosiery and Sock Mills.
315191 | Outerwear Knitting Mills | pt. | 315190 | Other Apparel Knitting Mills.
315192 | Underwear and Nightwear Knitting Mills | pt. | 315190 | Other Apparel Knitting Mills.
315211 | Men's and Boys' Cut and Sew Apparel Contractors | pt. | 315210 | Cut and Sew Apparel Contractors.
315212 | Women's, Girls', and Infants' Cut and Sew Apparel Contractors | pt. | 315210 | Cut and Sew Apparel Contractors.
315221 | Men's and Boys' Cut and Sew Underwear and Nightwear Manufacturing | pt. | 315220 | Men's and Boys' Cut and Sew Apparel Manufacturing.
315222 | Men's and Boys' Cut and Sew Suit, Coat, and Overcoat Manufacturing | pt. | 315220 | Men's and Boys' Cut and Sew Apparel Manufacturing.
315223 | Men's and Boys' Cut and Sew Shirt (except Work Shirt) Manufacturing | pt. | 315220 | Men's and Boys' Cut and Sew Apparel Manufacturing.
315224 | Men's and Boys' Cut and Sew Trouser, Slack, and Jean Manufacturing | pt. | 315220 | Men's and Boys' Cut and Sew Apparel Manufacturing.
315225 | Men's and Boys' Cut and Sew Work Clothing Manufacturing | pt. | 315220 | Men's and Boys' Cut and Sew Apparel Manufacturing.
315228 | Men's and Boys' Cut and Sew Other Outerwear Manufacturing | pt. | 315220 | Men's and Boys' Cut and Sew Apparel Manufacturing.
315231 | Women's and Girls' Cut and Sew Lingerie, Loungewear, and Nightwear Manufacturing | pt. | 315240 | Women's, Girls', and Infants' Cut and Sew Apparel Manufacturing.
315232 | Women's and Girls' Cut and Sew Blouse and Shirt Manufacturing | pt. | 315240 | Women's, Girls', and Infants' Cut and Sew Apparel Manufacturing.
315233 | Women's and Girls' Cut and Sew Dress Manufacturing | pt. | 315240 | Women's, Girls', and Infants' Cut and Sew Apparel Manufacturing.
315234 | Women's and Girls' Cut and Sew Suit, Coat, Tailored Jacket, and Skirt Manufacturing | pt. | 315240 | Women's, Girls', and Infants' Cut and Sew Apparel Manufacturing.
315239 | Women's and Girls' Cut and Sew Other Outerwear Manufacturing | pt. | 315240 | Women's, Girls', and Infants' Cut and Sew Apparel Manufacturing.
315291 | Infants' Cut and Sew Apparel Manufacturing | pt. | 315240 | Women's, Girls', and Infants' Cut and Sew Apparel Manufacturing.
315292 | Fur and Leather Apparel Manufacturing | pt. | 315280 | Other Cut and Sew Apparel Manufacturing.
315299 | All Other Cut and Sew Apparel Manufacturing | pt. | 315280 | Other Cut and Sew Apparel Manufacturing.
315991 | Hat, Cap, and Millinery Manufacturing | pt. | 315990 | Apparel Accessories and Other Apparel Manufacturing.
315992 | Glove and Mitten Manufacturing | pt. | 315990 | Apparel Accessories and Other Apparel Manufacturing.
315993 | Men's and Boys' Neckwear Manufacturing | pt. | 315990 | Apparel Accessories and Other Apparel Manufacturing.
315999 | Other Apparel Accessories and Other Apparel Manufacturing | pt. | 315990 | Apparel Accessories and Other Apparel Manufacturing.
316211 | Rubber and Plastics Footwear Manufacturing | pt. | 316210 | Footwear Manufacturing.
316212 | House Slipper Manufacturing | pt. | 316210 | Footwear Manufacturing.
316213 | Men's Footwear (except Athletic) Manufacturing | pt. | 316210 | Footwear Manufacturing.
316214 | Women's Footwear (except Athletic) Manufacturing | pt. | 316210 | Footwear Manufacturing.
316219 | Other Footwear Manufacturing | pt. | 316210 | Footwear Manufacturing.
316991 | Luggage Manufacturing | pt. | 316998 | All Other Leather Good and Allied Product Manufacturing.
316993 | Personal Leather Good (except Women's Handbag and Purse) Manufacturing | pt. | 316998 | All Other Leather Good and Allied Product Manufacturing.
316999 | All Other Leather Good and Allied Product Manufacturing | pt. | 316998 | All Other Leather Good and Allied Product Manufacturing.
321999 | All Other Miscellaneous Wood Product Manufacturing | pt. | 321999 | All Other Miscellaneous Wood Product Manufacturing.
322213 | Setup Paperboard Box Manufacturing | pt. | 322219 | Other Paperboard Container Manufacturing.
322214 | Fiber Can, Tube, Drum, and Similar Products Manufacturing | pt. | 322219 | Other Paperboard Container Manufacturing.
322215 | Nonfolding Sanitary Food Container Manufacturing | pt. | 322219 | Other Paperboard Container Manufacturing.
322221 | Coated and Laminated Packaging Paper Manufacturing | pt. | 322220 | Paper Bag and Coated and Treated Paper Manufacturing.
322222 | Coated and Laminated Paper Manufacturing | pt. | 322220 | Paper Bag and Coated and Treated Paper Manufacturing.
322223 | Coated Paper Bag and Pouch Manufacturing | pt. | 322220 | Paper Bag and Coated and Treated Paper Manufacturing.
322224 | Uncoated Paper and Multiwall Bag Manufacturing | pt. | 322220 | Paper Bag and Coated and Treated Paper Manufacturing.
322225 | Laminated Aluminum Foil Manufacturing for Flexible Packaging Uses | pt. | 322220 | Paper Bag and Coated and Treated Paper Manufacturing.
322226 | Surface-Coated Paperboard Manufacturing | pt. | 322220 | Paper Bag and Coated and Treated Paper Manufacturing.
322231 | Die-Cut Paper and Paperboard Office Supplies Manufacturing | pt. | 322230 | Stationery Product Manufacturing.
322232 | Envelope Manufacturing | pt. | 322230 | Stationery Product Manufacturing.
322233 | Stationery, Tablet, and Related Product Manufacturing | pt. | 322230 | Stationery Product Manufacturing.
323110 | Commercial Lithographic Printing | pt. | 323119 | Other Commercial Printing (except Screen and Books).
323111 | Commercial Gravure Printing | pt. | 323119 | Other Commercial Printing (except Screen and Books).
323112 | Commercial Flexographic Printing | pt. | 323119 | Other Commercial Printing (except Screen and Books).
323114 | Quick Printing | pt. | 323119 | Other Commercial Printing (except Screen and Books).
323115 | Digital Printing | pt. | 323119 | Other Commercial Printing (except Screen and Books).
323116 | Manifold Business Forms Printing | pt. | 323119 | Other Commercial Printing (except Screen and Books).
323118 | Blankbook, Looseleaf Binders, and Devices Manufacturing | pt. | 323119 | Other Commercial Printing (except Screen and Books).
323119 | Other Commercial Printing | pt. | 323119 | Other Commercial Printing (except Screen and Books).
323121 | Tradebinding and Related Work | pt. | 323120 | Support Activities for Printing.
323122 | Prepress Services | pt. | 323120 | Support Activities for Printing.
325131 | Inorganic Dye and Pigment Manufacturing | pt. | 325130 | Synthetic Dye and Pigment Manufacturing.
325132 | Synthetic Organic Dye and Pigment Manufacturing | pt. | 325130 | Synthetic Dye and Pigment Manufacturing.
325181 | Alkalies and Chlorine Manufacturing | pt. | 325180 | Other Basic Inorganic Chemical Manufacturing.
325182 | Carbon Black Manufacturing | pt. | 325180 | Other Basic Inorganic Chemical Manufacturing.
325188 | All Other Basic Inorganic Chemical Manufacturing | pt. | 325180 | Other Basic Inorganic Chemical Manufacturing.
325191 | Gum and Wood Chemical Manufacturing | pt. | 325194 | Cyclic Crude, Intermediate, and Gum and Wood Chemical Manufacturing.
325192 | Cyclic Crude and Intermediate Manufacturing | pt. | 325194 | Cyclic Crude, Intermediate, and Gum and Wood Chemical Manufacturing.
325221 | Cellulosic Organic Fiber Manufacturing | pt. | 325220 | Artificial and Synthetic Fibers and Filaments Manufacturing.
325222 | Noncellulosic Organic Fiber Manufacturing | pt. | 325220 | Artificial and Synthetic Fibers and Filaments Manufacturing.
326192 | Resilient Floor Covering Manufacturing | pt. | 326199 | All Other Plastics Product Manufacturing.
326199 | All Other Plastics Product Manufacturing | pt. | 326199 | All Other Plastics Product Manufacturing.
327111 | Vitreous China Plumbing Fixture and China and Earthenware Bathroom Accessories Manufacturing | pt. | 327110 | Pottery, Ceramics, and Plumbing Fixture Manufacturing.
327112 | Vitreous China, Fine Earthenware, and Other Pottery Product Manufacturing | pt. | 327110 | Pottery, Ceramics, and Plumbing Fixture Manufacturing.
327113 | Porcelain Electrical Supply Manufacturing | pt. | 327110 | Pottery, Ceramics, and Plumbing Fixture Manufacturing.
327121 | Brick and Structural Clay Tile Manufacturing | pt. | 327120 | Clay Building Material and Refractories Manufacturing.
327122 | Ceramic Wall and Floor Tile Manufacturing | pt. | 327120 | Clay Building Material and Refractories Manufacturing.
327123 | Other Structural Clay Product Manufacturing | pt. | 327120 | Clay Building Material and Refractories Manufacturing.
327124 | Clay Refractory Manufacturing | pt. | 327120 | Clay Building Material and Refractories Manufacturing.
327125 | Nonclay Refractory Manufacturing | pt. | 327120 | Clay Building Material and Refractories Manufacturing.
331111 | Iron and Steel Mills | pt. | 331110 | Iron and Steel Mills and Ferroalloy Manufacturing.
331112 | Electrometallurgical Ferroalloy Product Manufacturing | pt. | 331110 | Iron and Steel Mills and Ferroalloy Manufacturing.
331311 | Alumina Refining | pt. | 331313 | Alumina Refining and Primary Aluminum Production.
331312 | Primary Aluminum Production | pt. | 331313 | Alumina Refining and Primary Aluminum Production.
331316 | Aluminum Extruded Product Manufacturing | pt. | 331318 | Other Aluminum Rolling, Drawing, and Extruding.
331319 | Other Aluminum Rolling and Drawing | pt. | 331318 | Other Aluminum Rolling, Drawing, and Extruding.
331411 | Primary Smelting and Refining of Copper | pt. | 331410 | Nonferrous Metal (except Aluminum) Smelting and Refining.
331419 | Primary Smelting and Refining of Nonferrous Metal (except Copper and Aluminum) | pt. | 331410 | Nonferrous Metal (except Aluminum) Smelting and Refining.
331421 | Copper Rolling, Drawing, and Extruding | pt. | 331420 | Copper Rolling, Drawing, Extruding, and Alloying.
331422 | Copper Wire (except Mechanical) Drawing | pt. | 331420 | Copper Rolling, Drawing, Extruding, and Alloying.
331423 | Secondary Smelting, Refining, and Alloying of Copper | pt. | 331420 | Copper Rolling, Drawing, Extruding, and Alloying.
331521 | Aluminum Die-Casting Foundries | pt. | 331523 | Nonferrous Metal Die-Casting Foundries.
331522 | Nonferrous (except Aluminum) Die-Casting Foundries | pt. | 331523 | Nonferrous Metal Die-Casting Foundries.
331524 | Aluminum Foundries (except Die-Casting) | pt. | 331527 | Nonferrous Metal Foundries (except Die-Casting).
331525 | Copper Foundries (except Die-Casting) | pt. | 331527 | Nonferrous Metal Foundries (except Die-Casting).
331528 | Other Nonferrous Foundries (except Die-Casting) | pt. | 331527 | Nonferrous Metal Foundries (except Die-Casting).
332115 | Crown and Closure Manufacturing | pt. | 332119 | Metal Crown, Closure, and Other Metal Stamping (except Automotive).
332116 | Metal Stamping | pt. | 332119 | Metal Crown, Closure, and Other Metal Stamping (except Automotive).
332211 | Cutlery and Flatware (except Precious) Manufacturing | pt. | 332215 | Metal Kitchen Cookware, Utensil, Cutlery, and Flatware (except Precious) Manufacturing.
332212 | Hand and Edge Tool Manufacturing | pt. | 332216 | Saw Blade and Handtool Manufacturing.
332213 | Saw Blade and Handsaw Manufacturing | pt. | 332216 | Saw Blade and Handtool Manufacturing.
332214 | Kitchen Utensil, Pot, and Pan Manufacturing | pt. | 332215 | Metal Kitchen Cookware, Utensil, Cutlery, and Flatware (except Precious) Manufacturing.
332611 | Spring (Heavy Gauge) Manufacturing | pt. | 332613 | Spring Manufacturing.
332612 | Spring (Light Gauge) Manufacturing | pt. | 332613 | Spring Manufacturing.
332994 | Small Arms Manufacturing | pt. | 332994 | Small Arms, Ordnance, and Ordnance Accessories Manufacturing.
332995 | Other Ordnance and Accessories Manufacturing | pt. | 332994 | Small Arms, Ordnance, and Ordnance Accessories Manufacturing.
332997 | Industrial Pattern Manufacturing | pt. | 332999 | All Other Miscellaneous Fabricated Metal Product Manufacturing.
332998 | Enameled Iron and Metal Sanitary Ware Manufacturing | pt. | 332999 | All Other Miscellaneous Fabricated Metal Product Manufacturing.
332999 | All Other Miscellaneous Fabricated Metal Product Manufacturing | pt. | 332999 | All Other Miscellaneous Fabricated Metal Product Manufacturing.
333210 | Sawmill and Woodworking Machinery Manufacturing | pt. | 333243 | Sawmill, Woodworking, and Paper Machinery Manufacturing.
333220 | Plastics and Rubber Industry Machinery Manufacturing | pt. | 333249 | Other Industrial Machinery Manufacturing.
333291 | Paper Industry Machinery Manufacturing | pt. | 333243 | Sawmill, Woodworking, and Paper Machinery Manufacturing.
333292 | Textile Machinery Manufacturing | pt. | 333249 | Other Industrial Machinery Manufacturing.
333293 | Printing Machinery and Equipment Manufacturing |  | 333244 | Printing Machinery and Equipment Manufacturing.
333294 | Food Product Machinery Manufacturing |  | 333241 | Food Product Machinery Manufacturing.
333295 | Semiconductor Machinery Manufacturing |  | 333242 | Semiconductor Machinery Manufacturing.
333298 | All Other Industrial Machinery Manufacturing | pt. | 333249 | Other Industrial Machinery Manufacturing.
333311 | Automatic Vending Machine Manufacturing | pt. | 333318 | Other Commercial and Service Industry Machinery Manufacturing.
333312 | Commercial Laundry, Drycleaning, and Pressing Machine Manufacturing | pt. | 333318 | Other Commercial and Service Industry Machinery Manufacturing.
333313 | Office Machinery Manufacturing | pt. | 333318 | Other Commercial and Service Industry Machinery Manufacturing.
333315 | Photographic and Photocopying Equipment Manufacturing | pt. | 333316 | Photographic and Photocopying Equipment Manufacturing.
333319 | Other Commercial and Service Industry Machinery Manufacturing | pt. | 333318 | Other Commercial and Service Industry Machinery Manufacturing.
333411 | Air Purification Equipment Manufacturing | pt. | 333413 | Industrial and Commercial Fan and Blower and Air Purification Equipment Manufacturing.
333412 | Industrial and Commercial Fan and Blower Manufacturing | pt. | 333413 | Industrial and Commercial Fan and Blower and Air Purification Equipment Manufacturing.
333512 | Machine Tool (Metal Cutting Types) Manufacturing | pt. | 333517 | Machine Tool Manufacturing.
333513 | Machine Tool (Metal Forming Types) Manufacturing | pt. | 333517 | Machine Tool Manufacturing.
333516 | Rolling Mill Machinery and Equipment Manufacturing | pt. | 333519 | Rolling Mill and Other Metalworking Machinery Manufacturing.
333518 | Other Metalworking Machinery Manufacturing | pt. | 333519 | Rolling Mill and Other Metalworking Machinery Manufacturing.
334113 | Computer Terminal Manufacturing | pt. | 334118 | Computer Terminal and Other Computer Peripheral Equipment Manufacturing.
334119 | Other Computer Peripheral Equipment Manufacturing
| digital camera manufacturing | pt. | 333316 | Photographic and Photocopying Equipment Manufacturing.
| except digital camera manufacturing | pt. | 334118 | Computer Terminal and Other Computer Peripheral Equipment Manufacturing.
334411 | Electron Tube Manufacturing | pt. | 334419 | Other Electronic Component Manufacturing.
334413 | Semiconductor and Related Device Manufacturing:
| semiconductor integrated circuits manufacturing |  | 334414 | Semiconductor Integrated Circuit Manufacturing.
| except semiconductor integrated circuits manufacturing |  | 334415 | Semiconductor (except Integrated Circuit) and Related Device Manufacturing.
334414 | Electronic Capacitor Manufacturing | pt. | 334416 | Capacitor, Resistor, Coil, Transformer, and Other Inductor Manufacturing.
334415 | Electronic Resistor Manufacturing | pt. | 334416 | Capacitor, Resistor, Coil, Transformer, and Other Inductor Manufacturing.
334416 | Electronic Coil, Transformer, and Other Inductor Manufacturing | pt. | 334416 | Capacitor, Resistor, Coil, Transformer, and Other Inductor Manufacturing.
334419 | Other Electronic Component Manufacturing | pt. | 334419 | Other Electronic Component Manufacturing.
334518 | Watch, Clock, and Part Manufacturing | pt. | 334519 | Other Measuring and Controlling Device Manufacturing.
334519 | Other Measuring and Controlling Device Manufacturing | pt. | 334519 | Other Measuring and Controlling Device Manufacturing.
334611 | Software Reproducing | pt. | 334614 | Software and Other Prerecorded Compact Disc, Tape, and Record Reproducing.
334612 | Prerecorded Compact Disc (except Software), Tape, and Record Reproducing | pt. | 334614 | Software and Other Prerecorded Compact Disc, Tape, and Record Reproducing.
335211 | Electric Housewares and Household Fan Manufacturing | pt. | 335210 | Small Electrical Appliance Manufacturing.
335212 | Household Vacuum Cleaner Manufacturing | pt. | 335210 | Small Electrical Appliance Manufacturing.
336311 | Carburetor, Piston, Piston Ring, and Valve Manufacturing | pt. | 336310 | Motor Vehicle Gasoline Engine and Engine Parts Manufacturing.
336312 | Gasoline Engine and Engine Parts Manufacturing | pt. | 336310 | Motor Vehicle Gasoline Engine and Engine Parts Manufacturing.
336321 | Vehicular Lighting Equipment Manufacturing | pt. | 336320 | Motor Vehicle Electrical and Electronic Equipment Manufacturing.
336322 | Other Motor Vehicle Electrical and Electronic Equipment Manufacturing | pt. | 336320 | Motor Vehicle Electrical and Electronic Equipment Manufacturing.
336391 | Motor Vehicle Air-Conditioning Manufacturing | pt. | 336390 | Other Motor Vehicle Parts Manufacturing.
336399 | All Other Motor Vehicle Parts Manufacturing | pt. | 336390 | Other Motor Vehicle Parts Manufacturing.
337129 | Wood Television, Radio, and Sewing Machine Cabinet Manufacturing | pt. | 321999 | All Other Miscellaneous Wood Product Manufacturing.
339911 | Jewelry (except Costume) Manufacturing | pt. | 339910 | Jewelry and Silverware Manufacturing.
339912 | Silverware and Hollowware Manufacturing | pt. | 339910 | Jewelry and Silverware Manufacturing.
339913 | Jewelers' Material and Lapidary Work Manufacturing | pt. | 339910 | Jewelry and Silverware Manufacturing.
339914 | Costume Jewelry and Novelty Manufacturing | pt. | 339910 | Jewelry and Silverware Manufacturing.
339931 | Doll and Stuffed Toy Manufacturing | pt. | 339930 | Doll, Toy, and Game Manufacturing.
339932 | Game, Toy, and Children's Vehicle Manufacturing | pt. | 339930 | Doll, Toy, and Game Manufacturing.
339941 | Pen and Mechanical Pencil Manufacturing | pt. | 339940 | Office Supplies (except Paper) Manufacturing.
339942 | Lead Pencil and Art Good Manufacturing | pt. | 339940 | Office Supplies (except Paper) Manufacturing.
339943 | Marking Device Manufacturing | pt. | 339940 | Office Supplies (except Paper) Manufacturing.
339944 | Carbon Paper and Inked Ribbon Manufacturing | pt. | 339940 | Office Supplies (except Paper) Manufacturing.
423620 | Electrical and Electronic Appliance, Television, and Radio Set Merchant Wholesalers:
| electric water heaters | pt. | 423720 | Plumbing and Heating Equipment and Supplies (Hydronics) Merchant Wholesalers.
| except electric water heaters | pt. | 423620 | Household Appliances, Electric Housewares, and Consumer Electronics Merchant Wholesalers.
423720 | Plumbing and Heating Equipment and Supplies (Hydronics) Merchant Wholesalers
| gas household appliances (except gas water heaters) | pt. | 423620 | Household Appliances, Electric Housewares, and Consumer Electronics Merchant Wholesalers.
| except gas household appliances (except gas water heaters) | pt. | 423720 | Plumbing and Heating Equipment and Supplies (Hydronics) Merchant Wholesalers.
441221 | Motorcycle, ATV, and Personal Watercraft Dealers | pt. | 441228 | Motorcycle, ATV, and All Other Motor Vehicle Dealers.
441229 | All Other Motor Vehicle Dealers | pt. | 441228 | Motorcycle, ATV, and All Other Motor Vehicle Dealers.
443111 | Household Appliance Stores | pt. | 443141 | Household Appliance Stores.
443112 | Radio, Television, and Other Electronics Stores | pt. | 443142 | Electronics Stores.
443120 | Computer and Software Stores | pt. | 443142 | Electronics Stores.
443130 | Camera and Photographic Supplies Stores | pt. | 443142 | Electronics Stores.
451220 | Prerecorded Tape, Compact Disc, and Record Stores | pt. | 443142 | Electronics Stores.
454311 | Heating Oil Dealers | pt. | 454310 | Fuel Dealers.
454312 | Liquefied Petroleum Gas (Bottled Gas) Dealers | pt. | 454310 | Fuel Dealers.
454319 | Other Fuel Dealers | pt. | 454310 | Fuel Dealers.
722110 | Full-Service Restaurants |  | 722511 | Full-Service Restaurants.
722211 | Limited-Service Restaurants |  | 722513 | Limited-Service Restaurants.
722212 | Cafeterias, Grill Buffets, and Buffets |  | 722514 | Cafeterias, Grill Buffets, and Buffets.
722213 | Snack and Nonalcoholic Beverage Bars |  | 722515 | Snack and Nonalcoholic Beverage Bars.
pt.—Part of 2012 NAICS United States industry.

Table 2—ECPC Recommendations for 2012 NAICS United States Matched to 2007 NAICS U.S.
2012 NAICS code | 2012 NAICS description | Status Code | 2007 NAICS code | 2007 NAICS description
221114 | Solar Electric Power Generation | N | *221119 | Other Electric Power Generation—solar electric power generation.
221115 | Wind Electric Power Generation | N | *221119 | Other Electric Power Generation—wind electric power generation.
221116 | Geothermal Electric Power Generation | N | *221119 | Other Electric Power Generation—geothermal electric power generation.
221117 | Biomass Electric Power Generation | N | *221119 | Other Electric Power Generation—biomass electric power generation.
221118 | Other Electric Power Generation | N | *221119 | Other Electric Power Generation—except solar, wind, geothermal, and biomass electric power generation.
238190 | Other Foundation, Structure, and Building Exterior Contractors | R | *238190 | Other Foundation, Structure, and Building Exterior Contractors—except building fireproofing contractors.
238310 | Drywall and Insulation Contractors | R | 238310 | Drywall and Insulation Contractors.
|  |  | *238190 | Other Foundation, Structure, and Building Exterior Contractors—building fireproofing contractors.
|  |  | *238330 | Flooring Contractors—fireproof flooring construction contractors.
238330 | Flooring Contractors | R | *238330 | Flooring Contractors—except fireproof flooring construction contractors.
311224 | Soybean and Other Oilseed Processing | N | 311222 | Soybean Processing.
|  |  | 311223 | Other Oilseed Processing.
311314 | Cane Sugar Manufacturing | N | 311311 | Sugarcane Mills.
|  |  | 311312 | Cane Sugar Refining.
31135 | Chocolate and Chocolate Confectionery Manufacturing
311351 | Chocolate and Confectionery Manufacturing from Cacao Beans | N | 311320 | Chocolate and Confectionery Manufacturing from Cacao Beans.
311352 | Confectionery Manufacturing from Purchased Chocolate | N | 311330 | Confectionery Manufacturing from Purchased Chocolate.
311710 | Seafood Product Preparation and Packaging | N | 311711 | Seafood Canning.
|  |  | 311712 | Fresh and Frozen Seafood Processing.
311824 | Dry Pasta, Dough, and Flour Mixes Manufacturing from Purchased Flour | N | 311822 | Flour Mixes and Dough Manufacturing from Purchased Flour.
|  |  | 311823 | Dry Pasta Manufacturing.
3122 | Tobacco Manufacturing
31223 | Tobacco Manufacturing
312230 | Tobacco Manufacturing | N | 312210 | Tobacco Stemming and Redrying.
|  |  | 312221 | Cigarette Manufacturing.
|  |  | 312229 | Other Tobacco Product Manufacturing.
313110 | Fiber, Yarn, and Thread Mills | N | 313111 | Yarn Spinning Mills.
|  |  | 313112 | Yarn Texturizing, Throwing, and Twisting Mills.
|  |  | 313113 | Thread Mills.
313220 | Narrow Fabric Mills and Schiffli Machine Embroidery | N | 313221 | Narrow Fabric Mills.
|  |  | 313222 | Schiffli Machine Embroidery.
313240 | Knit Fabric Mills | N | 313241 | Weft Knit Fabric Mills.
|  |  | 313249 | Other Knit Fabric and Lace Mills.
313310 | Textile and Fabric Finishing Mills | N | 313311 | Broadwoven Fabric Finishing Mills.
|  |  | 313312 | Textile and Fabric Finishing (except Broadwoven Fabric) Mills.
314120 | Curtain and Linen Mills | N | 314121 | Curtain and Drapery Mills.
|  |  | 314129 | Other Household Textile Product Mills.
314910 | Textile Bag and Canvas Mills | N | 314911 | Textile Bag Mills.
|  |  | 314912 | Canvas and Related Product Mills.
314994 | Rope, Cordage, Twine, Tire Cord, and Tire Fabric Mills | N | 314991 | Rope, Cordage, and Twine Mills.
|  |  | 314992 | Tire Cord and Tire Fabric Mills.
315110 | Hosiery and Sock Mills | N | 315111 | Sheer Hosiery Mills.
|  |  | 315119 | Other Hosiery and Sock Mills.
315190 | Other Apparel Knitting Mills | N | 315191 | Outerwear Knitting Mills.
|  |  | 315192 | Underwear and Nightwear Knitting Mills.
31521 | Cut and Sew Apparel Contractors
315210 | Cut and Sew Apparel Contractors | N | 315211 | Men's and Boys' Cut and Sew Apparel Contractors.
|  |  | 315212 | Women's, Girls', and Infants' Cut and Sew Apparel Contractors.
31522 | Men's and Boys' Cut and Sew Apparel Manufacturing.
315220 | Men's and Boys' Cut and Sew Apparel Manufacturing | N | 315221 | Men's and Boys' Cut and Sew Underwear and Nightwear Manufacturing.
|  |  | 315222 | Men's and Boys' Cut and Sew Suit, Coat, and Overcoat Manufacturing.
|  |  | 315223 | Men's and Boys' Cut and Sew Shirt (except Work Shirt) Manufacturing.
|  |  | 315224 | Men's and Boys' Cut and Sew Trouser, Slack, and Jean Manufacturing.
|  |  | 315225 | Men's and Boys' Cut and Sew Work Clothing Manufacturing.
|  |  | 315228 | Men's and Boys' Cut and Sew Other Outerwear Manufacturing.
31524 | Women's, Girls', and Infants' Cut and Sew Apparel Manufacturing.
315240 | Women's, Girls', and Infants' Cut and Sew Apparel Manufacturing | N | 315231 | Women's and Girls' Cut and Sew Lingerie, Loungewear, and Nightwear Manufacturing.
|  |  | 315232 | Women's and Girls' Cut and Sew Blouse and Shirt Manufacturing.
|  |  | 315233 | Women's and Girls' Cut and Sew Dress Manufacturing.
|  |  | 315234 | Women's and Girls' Cut and Sew Suit, Coat, Tailored Jacket, and Skirt Manufacturing.
|  |  | 315239 | Women's and Girls' Cut and Sew Other Outerwear Manufacturing.
|  |  | 315291 | Infants' Cut and Sew Apparel Manufacturing.
31528 | Other Cut and Sew Apparel Manufacturing.
315280 | Other Cut and Sew Apparel Manufacturing | N | 315292 | Fur and Leather Apparel Manufacturing.
|  |  | 315299 | All Other Cut and Sew Apparel Manufacturing.
315990 | Apparel Accessories and Other Apparel Manufacturing | N | 315991 | Hat, Cap, and Millinery Manufacturing.
|  |  | 315992 | Glove and Mitten Manufacturing.
|  |  | 315993 | Men's and Boys' Neckwear Manufacturing.
|  |  | 315999 | Other Apparel Accessories and Other Apparel Manufacturing.
316210 | Footwear Manufacturing | N | 316211 | Rubber and Plastics Footwear Manufacturing.
|  |  | 316212 | House Slipper Manufacturing.
|  |  | 316213 | Men's Footwear (except Athletic) Manufacturing.
|  |  | 316214 | Women's Footwear (except Athletic) Manufacturing.
|  |  | 316219 | Other Footwear Manufacturing.
316998 | All Other Leather Good and Allied Product Manufacturing | N | 316991 | Luggage Manufacturing.
|  |  | 316993 | Personal Leather Good (except Women's Handbag and Purse) Manufacturing.
|  |  | 316999 | All Other Leather Good and Allied Product Manufacturing.
321999 | All Other Miscellaneous Wood Product Manufacturing | R | 321999 | All Other Miscellaneous Wood Product Manufacturing.
|  |  | 337129 | Wood Television, Radio, and Sewing Machine Cabinet Manufacturing.
322219 | Other Paperboard Container Manufacturing | N | 322213 | Setup Paperboard Box Manufacturing.
|  |  | 322214 | Fiber Can, Tube, Drum, and Similar Products Manufacturing.
|  |  | 322215 | Nonfolding Sanitary Food Container Manufacturing.
322220 | Paper Bag and Coated and Treated Paper Manufacturing | N | 322221 | Coated and Laminated Packaging Paper Manufacturing.
|  |  | 322222 | Coated and Laminated Paper Manufacturing.
|  |  | 322223 | Coated Paper Bag and Pouch Manufacturing.
|  |  | 322224 | Uncoated Paper and Multiwall Bag Manufacturing.
|  |  | 322225 | Laminated Aluminum Foil Manufacturing for Flexible Packaging Uses.
|  |  | 322226 | Surface-Coated Paperboard Manufacturing.
322230 | Stationery Product Manufacturing | N | 322231 | Die-Cut Paper and Paperboard Office Supplies Manufacturing.
|  |  | 322232 | Envelope Manufacturing.
|  |  | 322233 | Stationery, Tablet, and Related Product Manufacturing.
323119 | Other Commercial Printing (except Screen and Books) | R | 323110 | Commercial Lithographic Printing.
|  |  | 323111 | Commercial Gravure Printing.
|  |  | 323112 | Commercial Flexographic Printing.
|  |  | 323114 | Quick Printing.
|  |  | 323115 | Digital Printing.
|  |  | 323116 | Manifold Business Forms Printing.
|  |  | 323118 | Blankbook, Looseleaf Binders, and Devices Manufacturing.
|  |  | 323119 | Other Commercial Printing.
323120 | Support Activities for Printing | N | 323121 | Tradebinding and Related Work.
|  |  | 323122 | Prepress Services.
325130 | Synthetic Dye and Pigment Manufacturing | N | 325131 | Inorganic Dye and Pigment Manufacturing.
|  |  | 325132 | Synthetic Organic Dye and Pigment Manufacturing.
325180 | Other Basic Inorganic Chemical Manufacturing | N | 325181 | Alkalies and Chlorine Manufacturing.
|  |  | 325182 | Carbon Black Manufacturing.
|  |  | 325188 | All Other Basic Inorganic Chemical Manufacturing.
325194 | Cyclic Crude, Intermediate, and Gum and Wood Chemical Manufacturing | N | 325191 | Gum and Wood Chemical Manufacturing.
|  |  | 325192 | Cyclic Crude and Intermediate Manufacturing.
325220 | Artificial and Synthetic Fibers and Filaments Manufacturing | N | 325221 | Cellulosic Organic Fiber Manufacturing.
|  |  | 325222 | Noncellulosic Organic Fiber Manufacturing.
326199 | All Other Plastics Product Manufacturing | R | 326192 | Resilient Floor Covering Manufacturing.
|  |  | 326199 | All Other Plastics Product Manufacturing.
327110 | Pottery, Ceramics, and Plumbing Fixture Manufacturing | N | 327111 | Vitreous China Plumbing Fixture and China and Earthenware Bathroom Accessories Manufacturing.
|  |  | 327112 | Vitreous China, Fine Earthenware, and Other Pottery Product Manufacturing.
|  |  | 327113 | Porcelain Electrical Supply Manufacturing.
327120 | Clay Building Material and Refractories Manufacturing | N | 327121 | Brick and Structural Clay Tile Manufacturing.
|  |  | 327122 | Ceramic Wall and Floor Tile Manufacturing.
|  |  | 327123 | Other Structural Clay Product Manufacturing.
|  |  | 327124 | Clay Refractory Manufacturing.
|  |  | 327125 | Nonclay Refractory Manufacturing.
331110 | Iron and Steel Mills and Ferroalloy Manufacturing | N | 331111 | Iron and Steel Mills.
|  |  | 331112 | Electrometallurgical Ferroalloy Product Manufacturing.
331313 | Alumina Refining and Primary Aluminum Production | N | 331311 | Alumina Refining.
|  |  | 331312 | Primary Aluminum Production.
331318 | Other Aluminum Rolling, Drawing, and Extruding | N | 331316 | Aluminum Extruded Product Manufacturing.
|  |  | 331319 | Other Aluminum Rolling and Drawing.
331410 | Nonferrous Metal (except Aluminum) Smelting and Refining | N | 331411 | Primary Smelting and Refining of Copper.
|  |  | 331419 | Primary Smelting and Refining of Nonferrous Metal (except Copper and Aluminum).
331420 | Copper Rolling, Drawing, Extruding, and Alloying | N | 331421 | Copper Rolling, Drawing, and Extruding.
|  |  | 331422 | Copper Wire (except Mechanical) Drawing.
|  |  | 331423 | Secondary Smelting, Refining, and Alloying of Copper.
331523 | Nonferrous Metal Die-Casting Foundries | N | 331521 | Aluminum Die-Casting Foundries.
|  |  | 331522 | Nonferrous (except Aluminum) Die-Casting Foundries.
331527 | Nonferrous Metal Foundries (except Die-Casting) | N | 331524 | Aluminum Foundries (except Die-Casting).
|  |  | 331525 | Copper Foundries (except Die-Casting).
|  |  | 331528 | Other Nonferrous Foundries (except Die-Casting).
332119 | Metal Crown, Closure, and Other Metal Stamping (except Automotive) | N | 332115 | Crown and Closure Manufacturing.
|  |  | 332116 | Metal Stamping.
332215 | Metal Kitchen Cookware, Utensil, Cutlery, and Flatware (except Precious) Manufacturing | N | 332211 | Cutlery and Flatware (except Precious) Manufacturing.
|  |  | 332214 | Kitchen Utensil, Pot, and Pan Manufacturing.
332216 | Saw Blade and Handtool Manufacturing | N | 332212 | Hand and Edge Tool Manufacturing.
|  |  | 332213 | Saw Blade and Handsaw Manufacturing.
332613 | Spring Manufacturing | N | 332611 | Spring (Heavy Gauge) Manufacturing.
|  |  | 332612 | Spring (Light Gauge) Manufacturing.
332994 | Small Arms, Ordnance, and Ordnance Accessories Manufacturing | R | 332994 | Small Arms Manufacturing.
|  |  | 332995 | Other Ordnance and Accessories Manufacturing.
332999 | All Other Miscellaneous Fabricated Metal Product Manufacturing | R | 332997 | Industrial Pattern Manufacturing.
|  |  | 332998 | Enameled Iron and Metal Sanitary Ware Manufacturing.
|  |  | 332999 | All Other Miscellaneous Fabricated Metal Product Manufacturing.
3332 | Industrial Machinery Manufacturing.
33324 | Industrial Machinery Manufacturing.
333241 | Food Product Machinery Manufacturing | N | 333294 | Food Product Machinery Manufacturing.
333242 | Semiconductor Machinery Manufacturing | N | 333295 | Semiconductor Machinery Manufacturing.
333243 | Sawmill, Woodworking, and Paper Machinery Manufacturing | N | 333210 | Sawmill and Woodworking Machinery Manufacturing.
|  |  | 333291 | Paper Industry Machinery Manufacturing.
333244 | Printing Machinery and Equipment Manufacturing | N | 333293 | Printing Machinery and Equipment Manufacturing.
333249 | Other Industrial Machinery Manufacturing | N | 333220 | Plastics and Rubber Industry Machinery Manufacturing.
|  |  | 333292 | Textile Machinery Manufacturing.
|  |  | 333298 | All Other Industrial Machinery Manufacturing.
3333 | Commercial and Service Industry Machinery Manufacturing.
33331 | Commercial and Service Industry Machinery Manufacturing.
333314 | Optical Instrument and Lens Manufacturing | E | 333314 | Optical Instrument and Lens Manufacturing.
333316 | Photographic and Photocopying Equipment Manufacturing | N | 333315 | Photographic and Photocopying Equipment Manufacturing.
|  |  | *334119 | Other Computer Peripheral Equipment Manufacturing—digital camera manufacturing.
333318 | Other Commercial and Service Industry Machinery Manufacturing | N | 333311 | Automatic Vending Machine Manufacturing.
|  |  | 333312 | Commercial Laundry, Drycleaning, and Pressing Machine Manufacturing.
|  |  | 333313 | Office Machinery Manufacturing.
|  |  | 333319 | Other Commercial and Service Industry Machinery Manufacturing.
333413 | Industrial and Commercial Fan and Blower and Air Purification Equipment Manufacturing | N | 333411 | Air Purification Equipment Manufacturing.
|  |  | 333412 | Industrial and Commercial Fan and Blower Manufacturing.
333517 | Machine Tool Manufacturing | N | 333512 | Machine Tool (Metal Cutting Types) Manufacturing.
|  |  | 333513 | Machine Tool (Metal Forming Types) Manufacturing.
333519 | Rolling Mill and Other Metalworking Machinery Manufacturing | N | 333516 | Rolling Mill Machinery and Equipment Manufacturing.
|  |  | 333518 | Other Metalworking Machinery Manufacturing.
334118 | Computer Terminal and Other Computer Peripheral Equipment Manufacturing | N | 334113 | Computer Terminal Manufacturing.
|  |  | *334119 | Other Computer Peripheral Equipment Manufacturing—except digital camera manufacturing.
334414 | Semiconductor Integrated Circuit Manufacturing | R | *334413 | Semiconductor and Related Device Manufacturing—semiconductor integrated circuit manufacturing.
334415 | Semiconductor (except Integrated Circuit) and Related Device Manufacturing | R | *334413 | Semiconductor and Related Device Manufacturing—except semiconductor integrated circuit manufacturing.
334416 | Capacitor, Resistor, Coil, Transformer, and Other Inductor Manufacturing | R | 334414 | Electronic Capacitor Manufacturing.
|  |  | 334415 | Electronic Resistor Manufacturing.
|  |  | 334416 | Electronic Coil, Transformer, and Other Inductor Manufacturing.
334419 | Other Electronic Component Manufacturing | R | 334411 | Electron Tube Manufacturing.
|  |  | 334419 | Other Electronic Component Manufacturing.
334519 | Other Measuring and Controlling Device Manufacturing | R | 334518 | Watch, Clock, and Part Manufacturing.
|  |  | 334519 | Other Measuring and Controlling Device Manufacturing.
334614 | Software and Other Prerecorded Compact Disc, Tape, and Record Reproducing | N | 334611 | Software Reproducing.
|  |  | 334612 | Prerecorded Compact Disc (except Software), Tape, and Record Reproducing.
335210 | Small Electrical Appliance Manufacturing | N | 335211 | Electric Housewares and Household Fan Manufacturing.
|  |  | 335212 | Household Vacuum Cleaner Manufacturing.
336310 | Motor Vehicle Gasoline Engine and Engine Parts Manufacturing | N | 336311 | Carburetor, Piston, Piston Ring, and Valve Manufacturing.
|  |  | 336312 | Gasoline Engine and Engine Parts Manufacturing.
336320 | Motor Vehicle Electrical and Electronic Equipment Manufacturing | N | 336321 | Vehicular Lighting Equipment Manufacturing.
|  |  | 336322 | Other Motor Vehicle Electrical and Electronic Equipment Manufacturing.
336390 | Other Motor Vehicle Parts Manufacturing | N | 336391 | Motor Vehicle Air-Conditioning Manufacturing.
|  |  | 336399 | All Other Motor Vehicle Parts Manufacturing.
339910 | Jewelry and Silverware Manufacturing | N | 339911 | Jewelry (except Costume) Manufacturing.
|  |  | 339912 | Silverware and Hollowware Manufacturing.
|  |  | 339913 | Jewelers' Material and Lapidary Work Manufacturing.
|  |  | 339914 | Costume Jewelry and Novelty Manufacturing.
339930 | Doll, Toy, and Game Manufacturing | N | 339931 | Doll and Stuffed Toy Manufacturing.
|  |  | 339932 | Game, Toy, and Children's Vehicle Manufacturing.
339940 | Office Supplies (except Paper) Manufacturing | N | 339941 | Pen and Mechanical Pencil Manufacturing.
|  |  | 339942 | Lead Pencil and Art Good Manufacturing.
|  |  | 339943 | Marking Device Manufacturing.
|  |  | 339944 | Carbon Paper and Inked Ribbon Manufacturing.
423620 | Household Appliances, Electric Housewares, and Consumer Electronics Merchant Wholesalers | R | *423620 | Electrical and Electronic Appliance, Television, and Radio Set Merchant Wholesalers—except electric water heaters.
|  |  | *423720 | Plumbing and Heating Equipment and Supplies (Hydronics) Merchant Wholesalers- gas household appliances (except gas water heaters).
423720 | Plumbing and Heating Equipment and Supplies (Hydronics) Merchant Wholesalers | R | *423720 | Plumbing and Heating Equipment and Supplies (Hydronics) Merchant Wholesalers—except gas household appliances (except gas water heaters).
|  |  | *423620 | Electrical and Electronic Appliance, Television, and Radio Set Merchant Wholesalers—electric water heaters.
441228 | Motorcycle, ATV, and All Other Motor Vehicle Dealers | N | 441221 | Motorcycle, ATV, and Personal Watercraft Dealers.
|  |  | 441229 | All Other Motor Vehicle Dealers.
443 | Electronics and Appliance Stores.
4431 | Electronics and Appliance Stores.
44314 | Electronics and Appliance Stores.
443141 | Household Appliance Stores | N | 443111 | Household Appliance Stores.
443142 | Electronics Stores | N | 443112 | Radio, Television, and Other Electronics Stores.
|  |  | 443120 | Computer and Software Stores.
|  |  | 443130 | Camera and Photographic Supplies Stores.
|  |  | 451220 | Prerecorded Tape, Compact Disc, and Record Stores.
454310 | Fuel Dealers | N | 454311 | Heating Oil Dealers.
|  |  | 454312 | Liquefied Petroleum Gas (Bottled Gas) Dealers.
|  |  | 454319 | Other Fuel Dealers.
7225 | Restaurants.
72251 | Restaurants.
722511 | Full-Service Restaurants | N | 722110 | Full-Service Restaurants.
722513 | Limited-Service Restaurants | N | 722211 | Limited-Service Restaurants.
722514 | Cafeterias, Grill Buffets, and Buffets | N | 722212 | Cafeterias, Grill Buffets, and Buffets.
722515 | Snack and Nonalcoholic Beverage Bars | N | 722213 | Snack and Nonalcoholic Beverage Bars.
*—Part of 2007 NAICS United States industry; R—2007 NAICS industry code reused with different content;
N—new NAICS industry for 2012; E—existing industry with no changes.

[FR Doc. 2010-11290 Filed 5-11-10; 8:45 am]

BILLING CODE 3110-01-P